DEPARTMENT OF TRANSPORTATION

Federal Aviation Administration

Notice of Intent To Rule on Request To Release Airport Property at the Roswell Air Center, Roswell, New Mexico

AGENCY: Federal Aviation Administration (FAA), DOT.

ACTION: Notice of request to release airport property.

SUMMARY: The FAA proposes to rule and invite public comment on the release of land at the Roswell Air Center under the provisions of the Federal Property and Administrative Services Act of 1949, and the Surplus Property Act of 1944.

DATES: Comments must be received on or before January 3, 2025.

ADDRESSES: Comments on this application may be mailed or delivered to the FAA at the following address: Mr. Justin Barker, Manager, Federal Aviation Administration, Southwest Region, Airports Division, Louisiana/New Mexico Airports Development Office, ASW-640, Fort Worth, Texas 76177.

In addition, one copy of any comments submitted to the FAA must be mailed or delivered to Bobbi Thompson, Airport Director, at the following address: 1 Jerry Smith Circle, Roswell, New Mexico 88203.

FOR FURTHER INFORMATION CONTACT: Ms. Sarah Young, Program Manager, Federal Aviation Administration, Louisiana/New Mexico Airports Development Office, ASW-640, 10101 Hillwood Parkway, Fort Worth, Texas 76177. Telephone: (817) 222-5146. Email: Sarah.J.Young@FAA.gov. Fax: (817) 222-5989.

SUPPLEMENTARY INFORMATION: The Roswell Air Center under the provisions of the Federal Property and Administrative Services Act of 1949, and the Surplus Property Act of 1944. The following is a brief overview of the request:

The City of Roswell requests the release of 45.23 acres of land located at approximately 42 West Earl Cummings Loop, Roswell, New Mexico, 88203. The land was acquired by Indenture of the Federal Property and Administrative Services Act of 1949, and the Surplus Property Act of 1944. The property to be released will be sold to ARK Prefab LLC for expansion of their manufacturing business. The proceeds of the sale will benefit civil aviation through airport improvements.

Any person may inspect the request in person at the FAA office listed above under FOR FURTHER INFORMATION CONTACT.

In addition, any person may, upon request, inspect the application, notice and other documents relevant to the application in person at the City of Roswell Legal Department, telephone number (575) 637-6200.

Issued in Fort Worth, Texas, on November 25, 2024.
Ignacio Flores,
Director, Office of Airports Southwest Region.

[FR Doc. 2024-28300 Filed 12-3-24; 8:45 am]

BILLING CODE 4910-13-P